NATIONAL CREDIT UNION ADMINISTRATION

Privacy Act of 1974: Systems of Records

AGENCY: National Credit Union Administration (NCUA).

ACTION: Notice of a rescinded system of records; notice of a modified system of records.

SUMMARY: Pursuant to the Privacy Act of 1974, the National Credit Union Administration (NCUA) proposes the following changes to: Rescind a duplicative system of records; reflect changes in information access and retrieval; and change the name of the office system owner for an existing system of records. These actions are necessary to meet the requirements of the Privacy Act that federal agencies publish in the Federal Register a notice of the existence and character of records it maintains that are retrieved by an individual identifier.

DATES: Submit comments on or before April 30, 2018. This action will be effective without further notice on April 30, 2018 unless comments are received that would result in a contrary determination.

ADDRESSES: You may submit comments by any of the following methods, but please send comments by one method only:

• Federal eRulemaking Portal: http://www.regulations.gov. Follow the instructions for submitting comments.

• NCUA website: http://www.ncua.gov/RegulationsOpinionsLaws/proposed_regs/proposed_regs.html. Follow the instructions for submitting comments.

• Email: Address to regcomments@ncua.gov. Include “[Your name]—Comments on NCUA Consumer Complaints Against Federal Credit Unions SORN” in the email subject line.

• Fax: (703) 518-6319. Use the subject line described above for email.

• Mail: Address to Gerard Poliquin, Secretary of the Board, National Credit Union Administration, 1775 Duke Street, Alexandria, Virginia 22314-3428.

• Hand Delivery/Courier: Same as mail address.

FOR FURTHER INFORMATION CONTACT: Morgan M. Rogers, Division of Consumer Affairs Director, or Matthew J. Biliouris, Director, Office of Consumer Financial Protection, Consumer Assistance, the National Credit Union Administration, 1775 Duke Street, Alexandria, Virginia, 22314 (Regarding the NCUA- 12, Consumer Complaints Against Federal Credit Unions System), or Rena Kim, Privacy Attorney, or Linda Dent, Senior Agency Official for Privacy, Office of General Counsel, the National Credit Union Administration, 1775 Duke Street, Alexandria, Virginia, 22314, or telephone: (703) 518-6540.

SUPPLEMENTARY INFORMATION:

(1) NCUA is Proposing to Rescind NCUA-5, Unofficial Personnel and Employee Development/Correspondence Records

Pursuant to the Privacy Act of 1974, 5 U.S.C. 552a, NCUA is proposing to rescind the following system of records notice: Unofficial Personnel and Employee Development/Correspondence Records (last published at 75 FR 41539 (July 16, 2010).

NCUA-5 is a system of records that covers unofficial personnel and related records maintained by NCUA staff to facilitate day-to-day administrative activities. The records are already covered by OPM/GOVT-1 and OPM/GOVT-2 and therefore, the NCUA is proposing that NCUA-5 be rescinded. The rescission will not affect business and will likewise not create any additional privacy risks for the individuals whose information is covered by NCUA-5 (NCUA employees). Following the rescission of NCUA-5, the NCUA will continue to maintain and use the records as it previously had, but will rely on the government-wide SORNs as opposed to its own. A side-by-side comparison of the types of records, the purposes and the routine uses in NCUA-5 and those in OPM/GOVT-1 and OPM/GOVT-2 was conducted to ensure the proposed rescission would not orphan any Privacy Act records and was otherwise in keeping with the spirit of the Privacy Act's notice related provisions. The NCUA's proposal to rescind NCUA-5 is part of an ongoing SORN review for compliance with OMB Circular A-108, Section 6, i. (December 23, 2016).

(2) NCUA is proposing to Update NCUA-12, Consumer Complaints Against Credit Unions

The NCUA-12 Consumer Complaints Against Federal Credit Unions System is being updated to reflect a change in the manner in which records are accessed and retrieved by examination personnel. Additionally, the update includes a change to the office system owner's name resulting from a reorganization. The NCUA-12 system of records collects and maintains consumer complaints against credit unions received and processed by the NCUA Consumer Assistance Center. The change in access will improve the effectiveness and efficiency when examiners conduct the required pre-exam planning review of consumer complaints. Examiners may securely view consumer complaints, credit union responses, supporting documentation about complaints, and consumer protection violations concerning the credit unions in their assigned region. The Consumer Assistance Center is a component within NCUA's previous Office of Consumer Financial Protection and Access, now reorganized and renamed the Office of Consumer Financial Protection (OCFP).

NCUA-5

SYSTEM NAME:

Unofficial Personnel and Employee Development/Correspondence Records RESCINDED.

NCUA-12

SYSTEM NAME:

Consumer Complaints Against Federal Credit Unions

SECURITY CLASSIFICATION:

None.

SYSTEM LOCATION:

NCUA Consumer Assistance Center, Office of Consumer Financial Protection, National Credit Union Administration, 1775 Duke Street, Alexandria, VA. 22314-3428. Third party service provider, Salesforce.com, Inc. The Landmark at One Market, Suite 300, San Francisco, CA 94105.

SYSTEM MANAGER(S):

Division of Consumer Affairs Director, Office of Consumer Financial Protection, National Credit Union Administration, 1775 Duke Street, Alexandria, Virginia 22314-3428.

AUTHORITY FOR MAINTENANCE OF THE SYSTEM:

12 U.S.C. 1752a, 12 U.S.C. 1766, 12 U.S.C. 1784(a), and 12 U.S.C. 1789.

PURPOSE(S) OF THE SYSTEM:

The system supports the NCUA's supervisory oversight and enforcement responsibilities to intake and respond to consumer inquiries, complaints and other communications from the general public, credit unions and other state and federal government banking and law enforcement agencies regarding federal consumer financial protection laws, regulations and credit union activity.

CATEGORIES OF INDIVIDUALS COVERED BY THE SYSTEM:

Individuals who are members of the public that contact the NCUA's Consumer Assistance Center by telephone, written correspondence and web search, including both general inquiries and complaints concerning federal financial consumer protection matters within credit unions.

CATEGORIES OF RECORDS IN THE SYSTEM:

This system contains correspondence and records of other communications between the NCUA and the individual submitting a complaint or making an inquiry, including copies of supporting documents and contact information supplied by the individual. This system may also contain regulatory and supervisory communications between the NCUA and the NCUA-insured credit union in question and/or intra-agency or inter-agency memoranda or correspondence relevant to the complaint or inquiry.

RECORD SOURCE CATEGORIES:

Information is provided by the individual complainant, and his or her representative such as, a member of Congress or an attorney. Information is also provided by federal credit union officials and employees. Information is provided by the individual to whom the record pertains, internal agency records, and investigative and other record material compiled in the course of an investigation, or furnished by other state and federal financial regulatory and law enforcement government agencies.

ROUTINE USES OF RECORDS MAINTAINED IN THE SYSTEM, INCLUDING CATEGORIES OF USERS AND THE PURPOSES OF SUCH USES:

The NCUA's Consumer Assistance Center uses these records to document the submission of and responses to consumer inquiries, complaints and other communications from the general public regarding federal consumer financial protection laws, regulations and credit union activity.

In addition to those disclosures generally permitted under 5 U.S.C. 552a(b) of the Privacy Act, all or a portion of the records or information contained in this system may be disclosed outside the NCUA as a routine use as follows:

(1) To the insured credit union which is the subject of the complaint or inquiry when necessary to investigate or resolve the complaint or inquiry;

(2) To authorized third-party sources during the course of the investigation in order to resolve the complaint or inquiry. Information that may be disclosed under this routine use is limited to the name of the complainant or inquirer, the nature of the complaint or inquiry, and such additional information necessary to investigate the complaint or inquiry; and

(3) Information may be disclosed to other federal and nonfederal supervisory or regulatory authorities when the subject matter is a complaint or inquiry which is more properly within such agency's jurisdiction. Complaints involving matters that do not fall within NCUA's purview are forwarded to either the appropriate state supervisory authority or federal regulator for disposition.

(4) To the Federal or State supervisory/regulatory authority that has direct supervision over the insured credit union that is the subject of the complaint or inquiry.

(5) NCUA's standard routine uses apply to this system of records.

POLICIES AND PRACTICES FOR STORAGE OF RECORDS:

Records are stored electronically and physically.

POLICIES AND PRACTICES FOR RETRIEVAL OF RECORDS:

Records are retrieved by individual identifiers such as individual complainant's name.

POLICIES AND PRACTICES FOR RETENTION AND DISPOSAL OF RECORDS:

All records, including audio records, are retained in a secure and encrypted cloud-based storage system for a period of seven years consistent with the National Archives and Records Administration records retention schedule.

ADMINISTRATIVE, TECHNICAL AND PHYSICAL SAFEGUARDS:

Information in the system is safeguarded in accordance with the applicable laws, rules and policies governing the operation of federal information systems.

RECORD ACCESS PROCEDURES:

Individuals wishing access to their records should submit a written request to the Privacy Officer, NCUA, 1775 Duke Street, Alexandria, VA 22314, and provide the following information:

1. Full name.

2. Any available information regarding the type of record involved.

3. The address to which the record information should be sent.

4. You must sign your request.

Attorneys or other persons acting on behalf of an individual must provide written authorization from that individual for the representative to act on their behalf. Individuals requesting access must also comply with NCUA's Privacy Act regulations regarding verification of identity and access to records (12 CFR 792.55).

CONTESTING RECORD PROCEDURES:

Individuals wishing to request an amendment to their records should submit a written request to the Privacy Officer, NCUA, 1775 Duke Street, Alexandria, VA 22314, and provide the following information:

1. Full name.

2. Any available information regarding the type of record involved.

3. A statement specifying the changes to be made in the records and the justification therefore.

4. The address to which the response should be sent.

5. You must sign your request.

Attorneys or other persons acting on behalf of an individual must provide written authorization from that individual for the representative to act on their behalf.

NOTIFICATION PROCEDURES:

Individuals wishing to learn whether this system of records contains information about them should submit a written request to the Privacy Officer, NCUA, 1775 Duke Street, Alexandria, VA 22314, and provide the following information:

1. Full name.

2. Any available information regarding the type of record involved.

3. The address to which the record information should be sent.

4. You must sign your request.

Attorneys or other persons acting on behalf of an individual must provide written authorization from that individual for the representative to act on their behalf. Individuals requesting access must also comply with NCUA's Privacy Act regulations regarding verification of identity and access to records (12 CFR 792.55).

EXEMPTIONS PROMULGATED FOR THE SYSTEM:

This system is subject to the specific exemption provided by 5 U.S.C. 552a(k)(2), as the system of records is investigatory material compiled for law enforcement purposes.

HISTORY:

75 FR 41539 (July 16, 2010).

By the National Credit Union Administration Board on March 30, 2018.
Gerard Poliquin,
Secretary of the Board.

[FR Doc. 2018-06879 Filed 4-3-18; 8:45 am]

BILLING CODE P